COMMODITY FUTURES TRADING COMMISSION

Agency Information Collection Activities: Notice of Intent To Extend Collection 3038-0052: Core Principles & Other Requirements for DCMs

AGENCY: Commodity Futures Trading Commission.

ACTION: Notice.

SUMMARY: The Commodity Futures Trading Commission (“Commission” or “CFTC”) is announcing an opportunity for public comment on the proposed renewal of a collection of certain information by the agency. Under the Paperwork Reduction Act (“PRA”), Federal agencies are required to publish notice in the Federal Register concerning each proposed collection of information, including each proposed extension of an existing collection of information, and to allow 30 days for public comment. This notice solicits comments on reporting requirements relating to collections of information related to designated contract markets (“DCMs”) under the Commission's regulations.

DATES: Comments must be submitted on or before August 18, 2025.

ADDRESSES: You may submit comments, identified by “OMB Control No. 3038-0052” by any of the following methods:

• The Agency's website, at https://comments.cftc.gov/. Follow the instructions for submitting comments through the website.

• Mail: Christopher Kirkpatrick, Secretary of the Commission, Commodity Futures Trading Commission, Three Lafayette Centre, 1155 21st Street NW, Washington, DC 20581.

• Hand Delivery/Courier: Same as Mail above.

Please submit your comments using only one method.

FOR FURTHER INFORMATION CONTACT: Roger Smith, Division of Market Oversight, Commodity Futures Trading Commission, 77 West Jackson Blvd., Suite 800, Chicago, IL 60604; 202-418-5344; email: rsmith@cftc.gov.

SUPPLEMENTARY INFORMATION: Under the PRA, 44 U.S.C. 3501 et seq., Federal agencies must obtain approval from the Office of Management and Budget (“OMB”) for each collection of information they conduct or sponsor. “Collection of Information” is defined in 44 U.S.C. 3502(3) and 5 CFR 1320.3 and includes agency requests or requirements that members of the public submit reports, keep records, or provide information to a third party. Section 3506(c)(2)(A) of the PRA, 44 U.S.C. 3506(c)(2)(A), requires Federal agencies to provide a 30-day notice in the Federal Register concerning each proposed collection of information, including each proposed extension of an existing collection of information, before submitting the collection to OMB for approval. To comply with this requirement, the Commission is publishing notice of the proposed extension of the existing collection of information listed below. An agency may not conduct or sponsor, and a person is not required to respond to, a collection of information unless it displays a currently valid OMB control number.

Title: Core Principles & Other Requirements for DCMs (OMB Control No. 3038-0052). This is a request for a revision and extension of a currently approved information collection.

Abstract: Part 38 of the Commission's regulations governs the activities of DCMs. The information collected pursuant to Part 38 is necessary for the Commission to evaluate whether entities operating as, or applying to become, DCMs comply with the Part 38 and other Commission requirements and the CEA's statutory requirements.

In general, OMB Control Number 3038-0052 covers all information collections in Part 38, including Subpart A and the DCM core principles (i.e., Subparts B through X) as well as the related appendices thereto (i.e., Appendix A—Form DCM; Appendix B—Guidance on, and Acceptable Practices in, Compliance with Core Principles; and Appendix C—Demonstration of Compliance That a Contract Is Not Readily Susceptible to Manipulation). Further, OMB Control No. 3038-0052 includes all information collections related to Part 9 (“Rules Relating to Review of Exchange Disciplinary, Access Denial or Other Adverse Actions') to the extent Part 9 is applicable to DCMs. This collection also includes the requirements under regulation 38.251(g) in connection with the reporting of specific market disruption events to the Commission.

The collection also includes information collection requirements under regulation 1.52 regarding the Enhanced Protections Afforded Customer and Customer Funds Held by Futures Clearing Merchants and Derivatives Clearing Organizations for DCMs.¹ Additionally, this control number includes collections under regulation 38.1051(n) that relate to system safeguards and cybersecurity testing requirements and requires DCMs to provide the Commission with annual trading volume information. For the majority of collections under OMB control number 3038-0052, the Commission notes that the number of registered, active DCMs has increased from 16 to 21.² This increase in the number of registered DCMs has increased the estimated information collection burdens for OMB control number 3038-0052, as shown below.

¹ The Commission notes that § 38.605 incorporates and references § 1.52.

² See infra note 4.

On May 8, 2025, the Commission published in the Federal Register notice of the proposed extension of this information collection and provided 60 days for public comment on the proposed extension, 90 FR 19471 (“60-Day Notice”). The Commission did not receive any relevant comments on the 60-Day Notice.

With respect to the collection of information, the CFTC invites comments on:

• Whether the proposed collection of information is necessary for the proper performance of the functions of the Commission, including whether the information will have a practical use;

• The accuracy of the Commission's estimate of the burden of the proposed collection of information, including the validity of the methodology and assumptions used;

• Ways to enhance the quality, usefulness, and clarity of the information to be collected; and

• Ways to minimize the burden of collection of information on those who are to respond, including through the use of appropriate automated electronic, mechanical, or other technological collection techniques or other forms of information technology; e.g., permitting electronic submission of responses.

All comments must be submitted in English, or if not, accompanied by an English translation. Comments will be posted as received to https://www.cftc.gov. You should submit only information that you wish to make available publicly. If you wish for the Commission to consider information that you believe is exempt from disclosure under the Freedom of Information Act, a petition for confidential treatment of the exempt information may be submitted according to the procedures established in § 145.9 of the Commission's regulations.³

³ 17 CFR 145.9.

The Commission reserves the right, but shall have no obligation, to review, pre-screen, filter, redact, refuse or remove any or all of your submission from https://www.cftc.gov that it may deem to be inappropriate for publication, such as obscene language. All submissions that have been redacted or removed that contain comments on the merits of the Information Collection Request will be retained in the public comment file and will be considered as required under the Administrative Procedure Act and other applicable laws, and may be accessible under the Freedom of Information Act.

Burden Statement: The Commission is revising its estimate of the burden for this collection. The respondent burden for this collection is estimated to be as follows:

Total Estimated Burden for Information Collection 3038-0052

Estimated number of respondents: 21.⁴

⁴ The 60-Day Notice reflected an estimate of 18 respondents. Based on this number of respondents, the Commission had previously estimated that the annual burden hours for all respondents totaled 11,802. These estimates have been updated based on the most recent available data on the total number of respondents as shown here.

Estimated total annual number of responses: 9,009 (rounded).

Estimated total annual burden hours: 12,342 (rounded).

Estimated total annual burden cost: $1,252,217.

Frequency of Collection: On occasion.

There are no capital costs or operating and maintenance costs associated with this collection.

(Authority: 44 U.S.C. 3501 et seq.)

Dated: July 16, 2025.
Robert Sidman,
Deputy Secretary of the Commission.

[FR Doc. 2025-13539 Filed 7-17-25; 8:45 am]

BILLING CODE 6351-01-P